DEPARTMENT OF JUSTICE

Notice of Lodging Proposed Consent Decree

In accordance with Departmental Policy, 28 CFR 50.7, notice is hereby given that a proposed Consent Decree in United States v. Brenda Massey, was lodged with the United States District Court for the Southern District of Mississippi, Southern Division, on February 2, 2021, Case No. 1:21cv17-HSO-JCG.

This proposed Consent Decree concerns a complaint filed by the United States against Defendant Brenda Massey, pursuant to Sections 309, 402, and 404 of the Clean Water Act (“CWA”), 33 U.S.C. 1319, 1342, and 1344, for discharging pollutants into waters of the United States in George County, Mississippi without a permit, in violation of CWA Section 301(a), 33 U.S.C. 1311(a). The proposed Consent Decree resolves injunctive claims for relief by requiring the Defendant to perform environmental restoration and provide for mitigation of temporal losses through a monetary payment to an approved mitigation bank.

The Department of Justice will accept written comments relating to this proposed Consent Decree for thirty (30) days from the date of publication of this Notice. Please address comments to Michael Augustini, United States Department of Justice, Environment and Natural Resources Division, Environmental Defense Section, Post Office Box 7611, Washington, DC 20044-7611, pubcomment_eds.enrd@usdoj.gov, and refer to United States v. Brenda Massey, DJ #90-5-1-1-21358.

The proposed Consent Decree may be examined at the Clerk's Office, United States District Court for the Southern District of Mississippi, Southern Division, Dan M. Russell, Jr., United States Courthouse, 2012 15th Street, Suite 403, Gulfport, MS 39501. In addition, the proposed Consent Decree may be examined electronically at http://www.justice.gov/enrd/consent-decrees.

Cherie Rogers,
Assistant Section Chief, Environmental Defense Section, Environment and Natural Resources Division.

[FR Doc. 2021-02479 Filed 2-5-21; 8:45 am]

BILLING CODE 4410-15-P